DEPARTMENT OF HEALTH AND HUMAN SERVICES

Health Resources and Services Administration

Agency Information Collection Activities: Submission to OMB for Review and Approval; Public Comment Request; MCH Jurisdictional Survey Instrument for the Title V MCH Block Grant Program, OMB No. 0906-xxxx-NEW

AGENCY: Health Resources and Services Administration (HRSA), Department of Health and Human Services.

ACTION: Notice.

SUMMARY: In compliance with of the Paperwork Reduction Act of 1995, HRSA has submitted an Information Collection Request (ICR) to the Office of Management and Budget (OMB) for review and approval. A 60-day Federal Register Notice related to this proposed ICR was published in the Federal Register on November 16, 2018. No comments were received. OMB will accept comments from the public during the 30-day review and approval period.

DATES: Comments on this ICR should be received no later than March 25, 2019.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Maternal and Child Health (MCH) Jurisdictional Survey Instrument for the Title V MCH Block Grant Program, OMB No. 0906-xxxx-NEW.

Abstract: The purpose of the Title V MCH Block Grant is to improve the health of the nation's mothers, infants, children, including children with special health care needs, and their families by creating federal/state partnerships that provide each state/jurisdiction with needed flexibility to respond to its individual MCH population needs. Unique to the MCH Block Grant is a commitment to performance accountability, while assuring state flexibility. Utilizing a 3-tiered national performance measure framework, which includes National Outcome Measures (NOMs), National Performance Measures (NPMs), and Evidence-Based and Evidence-Informed Strategy Measures, State Title V programs report annually on their performance relative to the selected national performance and outcome measures. Such reporting enables the state and federal program offices to assess the progress achieved in key MCH priority areas and to document Title V program accomplishments.

By legislation (Section 505(a) of Title V of the Social Security Act), the MCH Block Grant Application/Annual Report must be developed by, or in consultation with, the State MCH Health agency. In establishing state reporting requirements, HRSA's Maternal and Child Health Bureau (MCHB) considers the availability of national data from other federal agencies. Data for the national performance and outcome measures are pre-populated for states in the Title V Information System. National data sources identified for the NPMs and NOMs in the MCH Block Grant program seldom include data from the Title V jurisdictions, with the exception of the District of Columbia. The eight remaining jurisdictions (American Samoa, Federated States of Micronesia, Guam, Marshall Islands, Northern Mariana Islands, Palau, Puerto Rico, and U.S. Virgin Islands) have limited access to significant data and MCH indicators, with limited capacity for collecting these data.

Sponsored by HRSA's MCHB, the MCH Jurisdictional Survey is designed to produce data on the physical and emotional health of mothers and children under 18 years of age in the following eight jurisdictions—American Samoa, Federated States of Micronesia, Guam, Marshall Islands, Northern Mariana Islands, Palau, Puerto Rico, and Virgin Islands. More specifically, the MCH Jurisdictional Survey collects information on factors related to the well-being of children, including health status, visits to health care providers, health care costs, and health insurance coverage. In addition, the MCH Jurisdictional Survey collects information on factors related to the well-being of mothers, including health risk behaviors, health conditions, and preventive health practices. This data collection will enable the jurisdictions to meet federal performance reporting requirements and to demonstrate the impact of Title V funding relative to MCH outcomes for the U.S. jurisdictions in reporting on their unique MCH priority needs.

The MCH Jurisdictional Survey was designed based on information-gathering activities with Title V leadership and program staff in the jurisdictions, experts at the Centers for Disease Control and Prevention, and other organizations with relevant data collection experience. Survey items are based on the National Survey of Children's Health, the Behavioral Risk Factor Surveillance System, the Youth Behavior Surveillance System, and selected other federal studies. The Survey is designed as a core questionnaire to be administered across all jurisdictions with a supplemental set of survey questions customized to the needs of each jurisdiction.

Need and Proposed Use of the Information: Data from the MCH Jurisdictional Survey will be used to measure progress on national performance and outcome measures under the Title V MCH Block Grant Program. This survey instrument is critical to collecting information on factors related to the well-being of all mothers, children, and their families in the jurisdictional Title V programs, and which address their unique MCH needs.

Likely Respondents: The respondent universe is women age 18 or older who live in one of the eight targeted U.S. jurisdictions (Puerto Rico, U.S. Virgin Islands, Guam, Northern Mariana Islands, American Samoa, Palau, Marshall Islands, or Federated States of Micronesia) and who are mothers or guardians of at least one child aged 0-17 years living in the same household.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours.

The number of respondents in the table below has decreased slightly for Puerto Rico, U.S. Virgin Islands, and Guam from the numbers included in the 60-day FRN. This decrease is due to a change in the data collection methodology from phone to in-person in these jurisdictions based on the results of the pre-test.

Form name | Number of respondents | Number of responses per respondent | Average burden per response (in hours) | Burden hours per form | Total burden hours
Adult Parents—Puerto Rico:
Screener | 810 | 1 | 0.03 | 24.30 | 204.30
Core | 200 | 1 | 0.83 | 166.00
Jurisdiction Module | 200 | 1 | 0.07 | 14.00
Adult Parents—U.S. Virgin Islands:
Screener | 903 | 1 | 0.03 | 27.09 | 207.09
Core | 200 | 1 | 0.83 | 166.00
Jurisdiction Module | 200 | 1 | 0.07 | 14.00
Adult Parents—Guam:
Screener | 566 | 1 | 0.03 | 16.98 | 196.98
Core | 200 | 1 | 0.83 | 166.00
Jurisdiction Module | 200 | 1 | 0.07 | 14.00
Adult Parents—American Samoa:
Screener | 395 | 1 | 0.03 | 11.85 | 187.85
Core | 200 | 1 | 0.83 | 166.00
Jurisdiction Module | 200 | 1 | 0.05 | 10.00
Adult Parents—Federated States of Micronesia:
Screener | 857 | 1 | 0.03 | 25.71 | 201.71
Core | 200 | 1 | 0.83 | 166.00
Jurisdiction Module | 200 | 1 | 0.05 | 10.00
Adult Parents—Marshall Islands:
Screener | 857 | 1 | 0.03 | 25.71 | 207.71
Core | 200 | 1 | 0.83 | 166.00
Jurisdiction Module | 200 | 1 | 0.08 | 16.00
Adult Parents—Northern Mariana Islands:
Screener | 600 | 1 | 0.03 | 18.00 | 200.00
Core | 200 | 1 | 0.83 | 166.00
Jurisdiction Module | 200 | 1 | 0.08 | 16.00
Adult Parents—Palau:
Screener | 967 | 1 | 0.03 | 29.01 | 199.01
Core | 200 | 1 | 0.83 | 166.00
Jurisdiction Module | 200 | 1 | 0.02 | 4.00
Total | 5,955 |  |  |  | 1,604.65

Amy P. McNulty,
Acting Director, Division of the Executive Secretariat.

[FR Doc. 2019-02945 Filed 2-20-19; 8:45 am]

BILLING CODE 4165-15-P